DEPARTMENT OF TRANSPORTATION

Pipeline and Hazardous Materials Safety Administration

Hazardous Materials: Notice of Applications for Special Permits

AGENCY: Pipeline and Hazardous Materials Safety Administration (PHMSA), DOT.

ACTION: List of applications for modification of special permits.

SUMMARY: In accordance with the procedures governing the application for, and the processing of, special permits from the Department of Transportation's Hazardous Material Regulations, notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before November 29, 2017.

ADDRESSES: Record Center, Pipeline and Hazardous Materials Safety Administration, U.S. Department of Transportation Washington, DC 20590.

Comments should refer to the application number and be submitted in triplicate. If confirmation of receipt of comments is desired, include a self-addressed stamped postcard showing the special permit number.

FOR FURTHER INFORMATION CONTACT: Ryan Paquet, Director, Office of Hazardous Materials Approvals and Permits Division, Pipeline and Hazardous Materials Safety Administration, U.S. Department of Transportation, East Building, PHH-30, 1200 New Jersey Avenue SE., Washington, DC 20590-0001, (202) 366-4535.

SUPPLEMENTARY INFORMATION: Copies of the applications are available for inspection in the Records Center, East Building, PHH-30, 1200 New Jersey Avenue SE., Washington DC, or at http://regulations.gov.

This notice of receipt of applications for special permit is published in accordance with part 107 of the Federal hazardous materials transportation law (49 U.S.C. 5117(b); 49 CFR 1.53(b)).

Issued in Washington, DC, on October 31, 2017.
Donald Burger,
Chief, General Approvals and Permits Branch.

Application No. | Docket No. | Applicant | Regulation(s) affected | Nature of the special permits thereof
SPECIAL PERMITS DATA
7227-M |  | CHART INC | 173.318 | To modify the special permit to clarify transportation by vessel requirements. (Modes 1,2,3)
7731-M |  | CHART INC | 173.318, 172.203(a), 173.320, 176.30, 176.76(g), 177.840(a), 177.840 | To authorize editorial changes to reflect changes made to the CFR. (Modes 1,3)
11186-M |  | CHART INC | 173.318, 176.30, 176.76(g) | To modify the special permit to clarify transportation by vessel requirements. (Modes 1,2,3)
14467-M |  | BRENNER TANK LLC | 178.345-2, 178.346-2, 178.347-2, 178.348-2 | To modify the special permit to reflect the 2015 Edition of the ASME Coe. (Mode 1)
14832-M |  | TRINITY INDUSTRIES, INC | 172.203(a), 173.31(e)(2)(iii), 179.100-12(c) | To modify the special permit to authorize an additional toxic by inhalation material. (Mode 2)
14951-M |  | HEXAGON LINCOLN, INC | 173.301(f), 173.302(a) | To modify the special permit to authorize an increase in tank volume from 8,500 liters to 12,000 liters and to authorize a shorter length for the sample test tube. (Modes 1,2,3)
15634-M |  | SODASTREAM USA, INC | 171.2(k), 172.202(a)(5)(iii)(B) | To modify the special permit to authorize a larger discharge cylinder. (Modes 1,2,3,4)
15713-M |  | BULK TANK INTERNATIONAL, S. DE R.L. DE C.V | 178.345-2, 178.346-2, 178.347-2, 178.348-2 | To modify the special permit to authorize Series 400 tanks to be constructed from materials conforming to ASME Code except for design stress margins shall be 4:1 (Mode 1)
16163-M |  | THE DOW CHEMICAL COMPANY | 172.203(a), 172.302(c), 180.605(h), 180.605(h)(3) | To modify the special permit to authorize an additional Division 4.2 material and to authorize pneumatic pressure testing on the authorized tanks. (Mode 1)
20356-M |  | TESLA, INC | 172.101(j) | To modify the special permit to authorize an increase in the number of cells which make up a battery module. (Mode 4)
20548-M |  | CONSUMER PRODUCT SAFETY COMMISSION, UNITED STATES | 173.22(a)(4)(i), 173.22(a)(4)(i)(ii), 173.24(f)(2) | To modify the special permit initially issued on an emergency basis and make it permanent. (Mode 1)

[FR Doc. 2017-24567 Filed 11-13-17; 8:45 am]

BILLING CODE 4901-60-P